DEPARTMENT OF ENERGY

Federal Energy Regulatory Commission

[Project No. 14624-000]

Alamo Dam Hydro Partners: Notice of Preliminary Permit Application Accepted for Filing and Soliciting Comments, Motions to Intervene, and Competing Applications

On May 6, 2014, Alamo Dam Hydro Partners filed an application for a preliminary permit, pursuant to section 4(f) of the Federal Power Act (FPA), proposing to study the feasibility of the Alamo Dam Hydroelectric Project (Alamo Dam Project or project) to be located on Bill Williams River, near the town of Weldon, La Paz County, Arizona. The project would be located at the existing Army Corps of Engineers' Alamo Dam. The sole purpose of a preliminary permit, if issued, is to grant the permit holder priority to file a license application during the permit term. A preliminary permit does not authorize the permit holder to perform any land-disturbing activities or otherwise enter upon lands or waters owned by others without the owners' express permission.

The proposed project would consist of the following: (1) An intake structure consisting of a concrete box with screens and a 90 degree bend with a bell fitting; (2) a 36-inch-diameter, 1,400-foot-long, underground penstock; (3) a powerhouse containing two turbine generators with a combined power generation of 950 kilowatts with an operating head of 125 feet; (4) a new approximately 500-foot-long transmission line; and (5) appurtenant facilities. The estimated annual generation of the project would be 2,200 megawatt-hours.

Applicant Contact: Mr. Justin Rundle, PE, Alamo Dam Hydro Partners, 6514 S. 41st Lane, Phoenix, Arizona 85041; phone: (602) 300-7242.

FERC Contact: Adam Beeco; phone: (202) 502-8655.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-14624-000.

More information about this project, including a copy of the application, can be viewed or printed on the “eLibrary” link of Commission's Web site at http://www.ferc.gov/docs-filing/elibrary.asp. Enter the docket number (P-14624) in the docket number field to access the document. For assistance, contact FERC Online Support.

Dated: July 21, 2014.
Kimberly D. Bose,
Secretary.

[FR Doc. 2014-17760 Filed 7-28-14; 8:45 am]

BILLING CODE 6717-01-P